DEPARTMENT OF HEALTH AND HUMAN SERVICES

National Institutes of Health

National Cancer Institute; Amended Notice of Meeting

Notice is hereby given of a change in the meeting of the National Cancer Institute Special Emphasis Panel, May 20, 2020, 8:00 a.m. to May 21, 2020, 2:00 p.m., National Cancer Institute Shady Grove, Shady Grove, 9609 Medical Center Drive, Rockville, MD, 20850 which was published in the Federal Register on March 31, 2020, 85 FR 17896 .

This notice is being amended to change the meeting start time from 8:00 a.m. to 9:00 a.m. The teleconference meeting will now be held from May 20, 2020, 9:00 a.m. to May 21, 2020, 2:00 p.m. The meeting is closed to the public.

Dated: April 9, 2020.
Melanie J. Pantoja,
Program Analyst, Office of Federal Advisory Committee Policy.

[FR Doc. 2020-07889 Filed 4-14-20; 8:45 am]

BILLING CODE 4140-01-P